DEPARTMENT OF HEALTH AND HUMAN SERVICES

Administration for Children and Families

Native American Programs

AGENCY: Administration for Native Americans (ANA).

ACTION: Notice of Final Issuance ANA Program Policies and Procedures.

SUMMARY: Pursuant to section 814 of the Native American Programs Act of 1974 (the Act) as amended by 42 U.S.C. 2991 et seq., ANA herein describes its issuance of final interpretive rules, general statements of policy and rules of agency procedure or practice in relation to the Social and Economic Development Strategies (SEDS), Native Language Preservation and Maintenance (hereinafter referred to as Native Language), Environmental Regulatory Enhancement (hereinafter referred to as Environmental), Environmental Mitigation (hereinafter referred to as Mitigation) programs and any Special Initiatives. Under the statute, ANA is required to provide members of the public an opportunity to comment on proposed changes in interpretive rules, statements of general policy and rules of agency procedure or practice and to give notice of the final adoption of such changes at least thirty (30) days before the changes become effective. The notice also provides additional information about ANA's plan for administering the programs.

FOR FURTHER INFORMATION CONTACT: Sheila K. Cooper, Director of Program Operations, toll-free at (877) 922-9262.

SUPPLEMENTARY INFORMATION: Section 814 of the Native American Programs Act of 1974, as amended, requires ANA to provide notice of its proposed interpretive rules, statements of policy and rules of agency organization, procedure or practice. In accordance with statute, these clarifications, modifications and new text will appear in the ANA FY06 Program Announcements (PAs) for SEDS, Native Language, Environmental, Mitigation and SEDS Special Initiatives. This notice serves to fulfill this requirement.

Additional Information: ANA received one public comment from a Federally recognized Tribe. The commenter provided a comment on the electronic application submission topic and general comments that ANA will respond to under separate correspondence that do not address the Notice of Public Comment (NOPC). The following NOPC items will be considered as the final FY06 ANA interpretive rules, statements of policy and rules of agency organization, procedure or practice.

I. Environmental Regulatory Enhancement

ANA Evaluation Criteria

Project Approach: In an effort to adhere to the Congressional intent of the legislation and to clarify the program purpose that has historically prompted numerous questions and created application and project development inconsistencies, ANA will now request the following information from applicants to be addressed within the ANA evaluation criterion:

Applicants are required to describe a land base or other resource, i.e., river or body of water, over which they exercise jurisdiction to implement Tribal regulation of environmental quality.

II. Definitions

The following definition will be used in the appropriate program-specific FY06 PAs. ANA has clarified many areas that applicants have historically found difficult to understand and that have previously prompted numerous questions and created application and project development inconsistencies. The ANA PAs will now include an additional definition for the following term:

Logic Model: A logic model is a systematic and visual way to present and share your understanding of the relationships among the resources you have to operate your program, the activities you plan and the changes or results you hope to achieve.

III. Impact Monitoring

Section 811(a)(1) of the Act requires that the Commissioner provide for the evaluation of projects assisted under this title, including evaluations that describe and measure the impact of such projects, their effectiveness in achieving stated goals, their impact on related programs and their structure and mechanisms for delivery of services. Section 811(a)2 of the Act requires that ANA evaluate projects awarded under the Act not less frequently than once every third year. ANA will consider (1) geographic location; (2) grant award amount; and (3) length of project period, when selecting projects for evaluation. Grantees will be given a notification of ANA's intent to review thirty (30) days prior to the on-site evaluation. Evaluations shall be conducted by persons not directly involved in the administration of the project evaluated.

In FY03 ANA began a process to enhance its capacity to conduct program monitoring and evaluation. This process allows ANA to monitor the completion of applicant project goals, the use of Federal funds, and the applicant's success in accomplishing its project mission. The process includes improving ANA's capacity through enhanced information technology systems to track performance-based indicators such as jobs, project outcomes and community impacts. Each applicant for ANA funding must propose a stand-alone project that will be completed or self-sustained by the end of the grant term, and must have measurable results. (See Notice of Public Comment on the Proposed Adoption of ANA Program Policies and Procedures: 68 FR 64686; November 14, 2003.)

Performance indicators have been introduced as application criteria and are measurement descriptions used to identify outcomes or results of the project. Outcomes or results must be measurable to determine that the project achieved its desired objective and can be independently verified through monitoring and evaluation. (Legal authority: Sections 803(a) and (d) and 803C of the Native American Programs Act of 1974 as amended by 42 U.S.C. 2991b and 2991b-3.) (See Notice of Public Comment on the Adoption of Impact Indicators: 70 FR 6686 February 8, 2005.)

In addition, ANA Training and Technical Assistance (T/TA) providers will be performing on-site technical assistance visits for those grantees identified as potentially at-risk for project implementation.

IV. Training and Technical Assistance On-Site Activity

45 CFR 74.51(g) and 92.40(e) allow Department of Health and Human Services staff or representatives to conduct on-site monitoring of grantees as warranted by program needs. Based on the authority provided, on-site monitoring and evaluation is necessary to determine if the amount awarded is a productive and effective use of funds and serves the community's needs. When determined as appropriate, ANA's T/TA providers will conduct an on-site visit to validate progress and outcomes proposed by the grantee to ensure project integrity and to offer technical assistance and guidance to support project activities. Such instances when an on-site visit is deemed appropriate are: Non-submission or untimely progress reporting; delayed start in project implementation; inconsistent Federal funds draw-downs in relation to approved work plan; or other grant/project management concerns.

In the case of a multi-year grant, this activity will help ANA determine if continued funding is justified. In addition, 45 CFR 1336.40 requires that progress reports and continuation applications from ANA grantees contain sufficient information for ANA to determine the extent to which the recipient satisfies ANA project evaluation standards. Sufficient information means information adequate to enable ANA to compare the recipient's accomplishments with the goals and activities of the grantee's approved work plan and with ANA project evaluation criteria. Grantees identified as potentially at-risk for project implementation will receive an on-site visit by one of ANA's T/TA providers. In collaboration, the T/TA provider and the grantee will identify challenges or barriers to the project and develop a plan to bring the project into compliance with its approved Objective Work Plan. On-site visits shall be conducted by persons not directly involved in the administration of the project.

V. Electronic Application Submission

Pursuant to the Federal Financial Assistance Management Improvement Act (Pub. L. 106-107), HHS is improving the efficiency and coordination of its grant-making processes by participating in the Federal Government's Grant Streamlining Initiative. For all FY06 competitions, ANA will participate in the Grants.gov process, which allows applicants the opportunity to submit applications electronically. Applicants are not required to submit electronically and can still submit hard copy applications. The applicant is responsible for ensuring on-time electronic submission is fully achieved. The following activities and application submission requirements will become effective in FY06:

• ANA will no longer publish PAs in the Federal Register. Official ANA PAs will be posted on the Grants.gov Web site. PAs will also be posted on the ANA Web site and on the ANA T/TA providers' Web sites.

• Due to limitations on the number of times the Objective Work Plan form can be replicated within the Grants.gov system, applicants will be limited to no more than six (6) project objectives per budget period. This limitation applies to all applicants regardless of type of submission format: Hard copy or electronic submission.

Comment and Response

Discussion on Comment: The commenter recommended that ANA monitor the electronic grants process of another Federal agency in order to ensure that the ACF process proceeds in an efficient and timely manner.

Response: ANA, in compliance with Public Law 106-107, must offer an electronic grants submission venue; however, the public is not required to submit grant applications via the Grants.gov system. ANA will monitor the electronic submission process for ANA grant applications through the Grants.gov system throughout the upcoming fiscal year.

VI. Environmental Mitigation

ANA received pass-through funds from the Department of Defense for Tribes and Tribal organizations to offset the effects of military actions at Formerly Used Defense Sites (FUDS). ANA will announce the availability of these funds in FY06. A request for financial assistance in this program area does not require a non-Federal share match requirement.

VII. SEDS Special Initiatives

ANA has the discretionary authority to make awards in support of special initiatives, including but not limited to, healthy marriage and relationships, fatherhood, positive youth development and emergency support to Native communities affected by man-made or natural disasters. In FY06, ANA will announce the availability of funding for special initiatives when practicable. A request for financial assistance for any of the special initiatives will require a non-Federal share match requirement.

VIII. Post Award Training

ANA, through contracted services, conducts regional post award training. Past practice has been to provide funding to new grantees for attendance at this training in order to provide additional assistance and information on managing a Federal award. In FY06, ANA will require all applicants to include in their Federal budget request the costs associated for the proposed project's finance person and the project manager to attend this regional training. It is determined that due to many reasons, largely grantee staff turnover, every grantee receiving an ANA award will benefit from the information provided at post award training; therefore, the expense is considered reasonable for all applicants to include in their budget request and also reflect in the activity in their Objective Work Plans.

IX. ANA Administrative Policy

The following policy will be used in all FY06 PAs. ANA has clarified many areas that applicants have historically found difficult to understand and that have previously prompted numerous questions and created application and project development inconsistencies. The ANA PAs will now include this clarified policy:

• If the applicant, other than a Tribe or an Alaska Native Village government, is proposing a project benefiting Native Americans, Alaska Natives, or both, it must provide assurance that its duly elected or appointed board of directors is representative of the community to be served. An applicant's governing board will be considered representative of the community to be served if the applicant demonstrates that at least a majority of the board individuals fall into one or more of the following categories: (1) A current or past member of the community to be served; (2) a prospective participant or beneficiary of the project to be funded; (3) have experience working with the community to be served by the project; or (4) have a cultural relationship with the community be to served.

Dated: December 14, 2005.
Quanah Crossland Stamps,
Commissioner, Administration for Native Americans.

[FR Doc. E5-7592 Filed 12-20-05; 8:45 am]

BILLING CODE 4184-01-P